Proclamation 10788 of July 25, 2024

National Korean War Veterans Armistice Day, 2024

By the President of the United States of America

A Proclamation

On National Korean War Veterans Armistice Day, we honor the service and sacrifice of the American and Korean service members who fought valiantly in the Korean War from 1950 to 1953. We hold in our hearts the memories of the 36,000 Americans and more than 7,000 Korean Augmentation to the United States Army soldiers who laid down their lives for the sacred cause of freedom. We recommit to upholding their legacy through our alliance with the Republic of Korea and by securing the future they gave everything for—one of peace, stability, and prosperity.

Today, I am thinking of Korean War veterans like Colonel Ralph Puckett, Jr., USA (Ret.), whom I awarded the Medal of Honor to in 2021. Prior to his passing in April, Colonel Puckett was the last living Korean War veteran to have received the Medal of Honor. His story, though one of uncommon valor, was reflected in the experiences and trials of so many of our Nation's Korean War veterans—trudging through frozen rice paddies, fighting on the rocky terrain of the Korean Peninsula, and persisting in spite of the fact that the enemy often far outnumbered our troops. Like I said to Colonel Puckett and his family years ago: Though the Korean War is sometimes called the “Forgotten War,” the heroes who were there under his command will never forget his bravery, and neither will we. Our entire Nation owes a debt of gratitude to every Korean War veteran for their service and sacrifice. As we recognize the service and sacrifice of our Nation's Korean War veterans, we also remember the thousands of service members who went missing in action during the Korean War—we will never stop working to bring each of them home.

Last year, I joined President Yoon of the Republic of Korea to mark the 70th anniversary of our countries' alliance. It is an unbreakable bond because it was forged in bravery and the sacrifice of both of our peoples—sanctified by the American and Korean troops who fought and died to defend liberty. Our Korean War veterans are the reason the alliance stands and remains strong today as two vibrant and innovative democracies. This alliance is why I was proud to sign the Korean American VALOR Act into law, helping Korean veterans who fought alongside American troops and are now American citizens receive access to Department of Veterans Affairs health care services.

Our Nation's Korean War veterans answered the call to duty. Like every generation before them, these veterans knew that freedom is never guaranteed—one has to fight for it and defend it in the battle between autocracy and democracy, between the greed of a few and the rights of many. As Colonel Puckett said: “Our country depends on you, me, what you do every day, and how you live . . . It depends on us.” May we all show our gratitude for our service members, who show us every day what it means to put our democracy and our Nation first.

NOW, THEREFORE, I, JOSEPH R. BIDEN JR., President of the United States of America, by virtue of the authority vested in me by the Constitution and the laws of the United States, do hereby proclaim July 27, 2024, as National Korean War Veterans Armistice Day. On this day, I encourage all Americans to reflect on the strength, sacrifices, and sense of duty of our Korean War veterans and bestow upon them the high honor they deserve. I call upon all Americans to observe this day with appropriate ceremonies and activities that honor and give thanks to our distinguished Korean War veterans.

IN WITNESS WHEREOF, I have hereunto set my hand this twenty-fifth day of July, in the year of our Lord two thousand twenty-four, and of the Independence of the United States of America the two hundred and forty-ninth.

[FR Doc. 2024-16852

Filed 7-29-24; 8:45 am]

Billing code 3395-F4-P